DEPARTMENT OF COMMERCE

International Trade Administration

[A-552-802]

Certain Frozen Warmwater Shrimp From the Socialist Republic of Vietnam: Final Results of the Second Five-Year Sunset Review of the Antidumping Duty Order

AGENCY: Enforcement and Compliance, International Trade Administration, Department of Commerce.

SUMMARY: On September 15, 2016, the Department of Commerce (Department) issued the preliminary results of the second full five-year (sunset) review of the antidumping duty (AD) order on certain frozen warmwater shrimp from the Socialist Republic of Vietnam (Vietnam). As a result of our analysis, the Department finds that revocation of the AD order would be likely to lead to continuation or recurrence of dumping at the levels indicated in the “Final Results of Sunset Review” section of this notice.

DATES: Effective January 30, 2017.

FOR FURTHER INFORMATION CONTACT: Irene Gorelik, AD/CVD Operations, Office VIII, Enforcement and Compliance, International Trade Administration, U.S. Department of Commerce, 1401 Constitution Avenue NW., Washington, DC, 20230; telephone: 202-482-6905.

SUPPLEMENTARY INFORMATION:

Background

On September 15, 2016, the Department published the Preliminary Results,¹ finding that dumping was likely to continue or recur if the AD Order ² were revoked, and determined to the report to the International Trade Commission (ITC) rates up to 25.76 percent as the margins of dumping likely to prevail.³ We invited interested parties to comment on the Preliminary Results. We received a case brief from the Vietnamese Association of Seafood Exporters and Producers (VASEP), representing the respondent interested parties on October 17, 2016, and rebuttal briefs from the domestic interested parties, Ad Hoc Shrimp Trade Action Committee (petitioner) and the American Shrimp Processors Association (ASPA), on October 24, 2016.

¹ See Certain Frozen Warmwater Shrimp from the Socialist Republic of Vietnam: Preliminary Results of the Second Five-Year Sunset Review of the Antidumping Duty Order, 81 FR 63469 (September 15, 2016) (Preliminary Results) and accompanying Preliminary Decision Memorandum.

² See Notice of Amended Final Determination of Sales at Less Than Fair Value and Antidumping Duty Order: Certain Frozen Warmwater Shrimp from the Socialist Republic of Vietnam, 70 FR 5152 (February 1, 2005) (AD Order).

³ See Sunset Prelim, 81 FR at 63470.

Scope of the Order

The merchandise subject to the order is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description, available in the Issues and Decision Memorandum, remains dispositive.⁴

⁴ For a complete description of the Scope of the Order, see Memorandum to Ronald K. Lorentzen, Acting Assistant Secretary for Enforcement and Compliance, from Gary Taverman, Associate Deputy Assistant Secretary for Antidumping and Countervailing Duty Operations, re: “Issues and Decision Memorandum for the Final Results of the Second Sunset Review of the Antidumping Duty Order on Certain Frozen Warmwater Shrimp from the Socialist Republic of Vietnam,” dated concurrently with this notice (Issues and Decision Memorandum).

Analysis of Comments Received

All issues raised for the final results of this sunset review are addressed in the Issues and Decision Memorandum, dated concurrently with this final notice, which is hereby adopted by this notice. The issues discussed in the Issues and Decision Memorandum include the likelihood of the continuation or recurrence of dumping and the magnitude of the margins of dumping likely to prevail. The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed directly on the internet at http://enforcement.trade.gov/frn/. The signed and electronic versions of the Issues and Decision Memorandum are identical in content.

Final Results of Sunset Review

We determine that revocation of the AD Order on certain frozen warmwater shrimp from Vietnam would be likely to lead to continuation or recurrence of dumping at weighted average margins up to 25.76 percent.

Notification to Interested Parties

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the final results of this full sunset review in accordance with sections 751(c)(5)(A), 752(c), and 777(i) of the Tariff Act of 1930, as amended, and 19 CFR 351.218(f)(3).

Dated: January 24, 2017.
Ronald K. Lorentzen,
Acting Assistant Secretary for Enforcement and Compliance.

Appendix I—List of Topics Discussed in the Issues and Decision Memorandum

1. Summary

2. Background

3. Scope of the Order

4. Discussion of the Issues

Comment 1: Whether the Department Properly Considered Import Volumes and Dumping Margins in Its “Likelihood” Determination

Comment 2: Magnitude of the Margins Likely to Prevail

5. Recommendation

[FR Doc. 2017-01952 Filed 1-27-17; 8:45 am]

BILLING CODE 3510-DS-P